DEPARTMENT OF ENERGY

Notice of Intent To Prepare a Programmatic Environmental Impact Statement for the Global Nuclear Energy Partnership

AGENCY: Department of Energy.

ACTION: Notice of Intent.

SUMMARY: The Department of Energy (DOE) intends to prepare a Programmatic Environmental Impact Statement for the Global Nuclear Energy Partnership initiative (GNEP PEIS) pursuant to the National Environmental Policy Act (NEPA) of 1969, as amended (42 U.S.C. 4321 et seq.), and the Council on Environmental Quality's (CEQ's) and DOE's regulations implementing NEPA (40 CFR Parts 1500-1508 and 10 CFR Part 1021, respectively). GNEP would encourage expansion of domestic and international nuclear energy production while reducing nuclear proliferation risks, and reduce the volume, thermal output, and radiotoxicity of spent nuclear fuel (spent fuel or SNF) before disposal in a geologic repository.

Domestically, GNEP involves a programmatic proposal as well as project-specific proposals. The programmatic proposal is to begin to recycle spent fuel and destroy the long-lived radioactive components of that spent fuel. Toward this end, GNEP includes project-specific proposals to construct and operate three facilities. The proposed nuclear fuel recycling center would separate the SNF into its reusable components and waste components and manufacture new nuclear fuel using reusable components that still have the potential for use in nuclear power generation. The proposed advanced recycling reactor would destroy long-lived radioactive elements in the fuel while generating electricity. The advanced fuel cycle research facility would perform research into SNF recycling processes and other aspects of advanced nuclear fuel cycles. The GNEP PEIS will consider 13 sites as possible locations for one or more of these facilities, as well as alternative technologies to be used in these facilities. Internationally, GNEP involves two programmatic initiatives. First, the United States would cooperate with countries that have advanced nuclear programs to supply nuclear fuel services to countries that refrain from pursuing enrichment or recycling facilities to make their own nuclear fuel. Such countries would have no need to develop the technology and infrastructure to enrich uranium or separate plutonium, both of which have application in the production of nuclear weapons. Second, the United States would promote proliferation-resistant nuclear power reactors suitable for use in developing economies.

The GNEP PEIS will analyze the potential environmental impacts of these programmatic and project-specific proposals, as well as reasonable alternatives. The GNEP PEIS also will evaluate at a programmatic level the potential environmental impacts associated with the international aspects of GNEP, including alternatives. The SUPPLEMENTARY INFORMATION section of this Notice of Intent (NOI) describes the alternatives that DOE proposes to evaluate in the GNEP PEIS. This NOI also identifies dates, times, and locations for public scoping meetings on the GNEP PEIS.

DATES: DOE invites Federal, state, and local governments, Native American Tribes, industry, other organizations, and members of the public to provide comments on the proposed scope, alternatives, and environmental issues to be analyzed in the GNEP PEIS. The public scoping period starts with the publication of this NOI in the Federal Register and will continue through April 4, 2007. All comments received during the public scoping period will be considered in preparing the GNEP PEIS. Late comments will be considered to the extent practicable. Public scoping meetings are discussed below in the SUPPLEMENTARY INFORMATION section. Federal or state agencies, local governments, or Native American Tribes that want to be considered as a cooperating agency in preparation of this PEIS should contact Mr. Timothy A. Frazier at the address listed below.

ADDRESSES: Please direct comments, suggestions, or relevant information on the GNEP PEIS to: Mr. Timothy A. Frazier, GNEP PEIS Document Manager, Office of Nuclear Energy, U.S. Department of Energy, 1000 Independence Avenue, SW., Washington, DC 20585-0119, Telephone: 866-645-7803, Fax: 866-645-7807, e-mail to: GNEP-PEIS@nuclear.energy.gov. Please mark envelopes, faxes, and e-mail: “GNEP PEIS Comments.” Additional information on GNEP may be found at http://www.gnep.energy.gov.

For general information on the DOE NEPA process, please contact: Ms. Carol M. Borgstrom, Director, Office of NEPA Policy and Compliance, GC-20, U.S. Department of Energy, 1000 Independence Avenue, SW., Washington, DC 20585-0103, 202-586-4600, or by leaving a message at 1-800-472-2756. Additional information regarding DOE's NEPA activities is available on the DOE NEPA Web site at http://www.eh.doe.gov/nepa. This NOI is available at http://www.eh.doe.gov/nepa and http://www.gnep.energy.gov.

SUPPLEMENTARY INFORMATION:

I. Terminology

To aid in understanding the information that follows, a brief explanation of key terms and the three proposed facilities that support GNEP is provided below:

• Advanced Fuel Cycle Initiative—The Advanced Fuel Cycle Initiative (AFCI) is an ongoing DOE initiative to develop proliferation-resistant spent nuclear fuel treatment and transmutation technologies to enable a transition from the current once-through nuclear fuel cycle to a future sustainable, closed nuclear fuel cycle where valuable material is separated from spent fuel and recycled, thereby extracting energy and reducing waste.

• Enriched uranium—Uranium in which the proportion of uranium-235 to uranium-238 has been increased above the naturally occurring 0.7 percent uranium-235. Reactor-grade uranium is uranium that has been enriched to about three to five percent uranium-235 for use in reactors to produce electricity. The same process can be used to further enrich uranium for weapons use.

• Fission—The splitting of an atom into at least two other atoms and the release of a relatively large amount of energy. Two or three neutrons are usually released during the transformation. Fission is the scientific principle by which nuclear power reactors work.

• Fission product—The atoms (fission fragments) formed by the fission of heavy elements such as uranium. Fission products build up in nuclear fuel as a normal part of reactor operations.

• Light-water reactor—A nuclear power reactor that uses water to cool the reactor and to moderate (slow down) neutrons. It belongs to the class of nuclear power plants called “thermal reactors.” Most nuclear power reactors in the world are light-water reactors.

• Recycling—The separation of used nuclear fuel into: Uranium; waste (fission products and fuel element structural materials); and transuranics. Uranium and transuranics would be incorporated into new fuel to be consumed in reactors to generate electricity.

• Spent nuclear fuel (used nuclear fuel)—The fuel that has been used in a nuclear reactor. As a typical nuclear reactor operates, the fission process creates energy to generate electricity. During this process, the uranium is being “used” and fission products accumulate and interfere with efficiency until the fuel can no longer effectively produce energy. At this point, the used fuel is said to be “spent” and is replaced.

• Transmutation—The conversion of one element to another by changing its atomic structure. There are two primary transmutation processes: Fission, which splits atoms, releasing energy; and neutron capture, which adds one neutron to an atom. Transmutation can be used to destroy radioactive elements with very long half-lives, such as transuranic elements, by converting them to stable elements or elements with shorter half-lives, while producing energy.

• Transuranics (transuranic elements)—Elements with atomic numbers greater than uranium (atomic number 92), including neptunium (93), plutonium (94), americium (95), and curium (96). Transuranic elements are created in nuclear power reactors when uranium absorbs or captures neutrons.

• Uranium enrichment—The physical process of increasing the proportion (or ratio) of uranium-235 to uranium-238 to make the uranium more usable as nuclear fuel.

The three proposed GNEP facilities that DOE will evaluate in the GNEP PEIS are:

• A nuclear fuel recycling center—A nuclear fuel recycling center would support two of the three key components of an SNF recycling program: (1) It would separate light-water reactor SNF and fast reactor SNF into their reusable and non-reusable constituents, and (2) after completion of transmutation fuel development at the advanced fuel cycle research facility, it would fabricate such fuel for use in the destruction of transuranic elements in a fast reactor (the advanced recycling reactor). A nuclear fuel recycling center could be privately owned and operated, potentially with government-supplied incentives or other involvement yet to be determined.

• An advanced recycling reactor—A fast neutron spectrum reactor that would be capable of converting long-lived radioactive elements (e.g., plutonium and other transuranics) into shorter-lived radioactive elements while producing electricity. The advanced recycling reactor could be privately owned and operated, potentially with government-supplied incentives or other involvement yet to be determined.

• An advanced fuel cycle research facility—A research facility that DOE would design, build, and operate at a DOE site. Among other activities, the advanced fuel cycle research facility would support research and development (R&D) relating to separation and fabrication of fast reactor transmutation fuel to enable the destruction of transuranic elements separated from SNF.

II. Background

The United States faces significant energy challenges including increasing energy supplies in ways that protect and improve the environment. Meeting each of these challenges is critical to expanding the United States economy and protecting energy and national security.

The President's Advanced Energy Initiative has identified three ways to meet the challenge of generating more electricity: Clean coal technology, advanced emission-free nuclear power, and renewable resources such as solar and wind. The GNEP PEIS will evaluate the potential environmental impacts of alternative ways to recycle spent nuclear fuel using technologies that increase its usefulness while reducing the threat of proliferation.

Nuclear power provides approximately one-fifth of the electricity that the United States uses to power factories, office buildings, homes, and schools. Over 100 operating nuclear power plants, located at 65 sites in 31 states, constitute the second-largest source of electricity generation in the United States. The plants are, on average, approximately 25 years old and are licensed to operate for 40 years with an option to renew for an additional 20 years. Nuclear reactors do not emit the air pollutants and greenhouse gases that result from coal-fired, oil-fired, and natural gas-fired generation. Nuclear power contributes to United States energy security.

Historically, the United States has used a “once through” or “open” fuel cycle in which nuclear fuel is used a single time by a nuclear power reactor, and then the spent fuel is stored at that plant pending disposal. The Federal government has responsibility for the disposal of SNF, and plans to dispose of it in the geologic repository located at Yucca Mountain, Nevada.

GNEP would establish a “closed” fuel cycle by recycling spent nuclear fuel rather than disposing of it after one use. Recycling spent fuel rather than disposing of it potentially would extend the stock of nuclear fuel available to meet growing electricity demand and reduce waste from the generation of nuclear power. DOE has been researching and developing recycling technologies in its laboratories for many years and has identified processes that would be needed for GNEP to accomplish its objectives. However, additional R&D is necessary to implement the proposed GNEP recycling associated with the transmutation fuel.

GNEP also offers the potential for more efficient nuclear waste disposal. Technological advancements through GNEP could reduce the volume, thermal output, and radiotoxicity of waste requiring permanent disposal at the Yucca Mountain geologic repository. It is important to emphasize, however, that GNEP does not diminish in any way the need for, or the urgency of, the nuclear waste disposal program at Yucca Mountain. Yucca Mountain is still required under any fuel cycle scenario.

The Energy Information Administration projects that the world's electricity consumption will double from 2003 to 2030. GNEP as envisioned would promote the expanded use of carbon-free nuclear energy to meet growing electricity demand throughout the world, while reducing nuclear proliferation risks. GNEP would achieve this goal by having nations with secure, advanced nuclear capabilities provide fuel services—fresh fuel and recovery of used fuel—to other nations that refrain from pursuing uranium enrichment or recycling activities. The closed fuel cycle model envisioned by this partnership requires development and deployment of technologies that enable recycling and reduction of long-lived radioactive waste.

As these technologies are developed, the United States would work with partners to provide developing countries with reactors that would be secure, cost-effective, and able to meet their energy needs, as well as related nuclear services that would ensure that they have a reliable fuel supply. In exchange, these countries would agree to use nuclear power only for electricity and refrain from pursuing uranium enrichment and reprocessing activities that can be used to develop nuclear weapons. By working with other nations under the GNEP, the United States could provide safe and reliable energy that growing economies need, while reducing the risk of nuclear proliferation.

The commercial marketplace will ultimately determine how to meet future increased demand for electricity. By recycling SNF, GNEP is designed to provide an alternative to the once-through fuel cycle. DOE is not proposing in this PEIS that DOE would construct and operate any facilities for the primary purpose of generating electricity. The proposed advanced recycling reactor would demonstrate the feasibility of consuming transuranics in transmutation fuel in a reactor, while also generating electricity.

III. The Purpose and Need for Agency Action

DOE's underlying purpose and need in proposing this action is to encourage expansion of domestic and international nuclear energy production while reducing the risks associated with nuclear proliferation, and to reduce the volume, thermal output, and radiotoxicity of SNF before disposal in a geologic repository. To meet its non-proliferation goals with regard to SNF recycling, DOE will only assess as reasonable alternatives those technologies that do not separate pure plutonium.

IV. Advance Notice of Intent; Funding Opportunity Announcement; Requests for Expressions of Interest

On March 22, 2006, DOE published in the Federal Register (71 FR 14505) an Advance NOI (ANOI) related to the then-proposed GNEP Technology Demonstration Program EIS. That ANOI explained the goals of GNEP as it was then conceived and identified the three major project-specific elements (the demonstration of advanced separations processes, conversion of transuranics, and advanced fuel fabrication) of a GNEP Technology Demonstration Program, which was intended to demonstrate closed fuel cycle technologies at an engineering scale. The ANOI also invited comments on the proposed scope, alternatives, and environmental issues to be analyzed in that EIS. DOE received over 800 comment documents, more than 750 of which contained similar substantive comments.

DOE considered all comments received. One of the main comments received was that DOE should do a programmatic NEPA review instead of limiting its review to the three facilities. Comments received on the ANOI also included the following:

• The proposed technologies are not sufficiently advanced to proceed with engineering-scale demonstrations;

• DOE should pursue and analyze alternatives to nuclear power in a PEIS;

• DOE is proceeding with Federal action related to GNEP before conducting the required NEPA analysis.

These issues will be addressed in the GNEP PEIS.

In addition, a number of foreign governments and private companies have expressed interest in cooperating with DOE to develop and deploy advanced nuclear fuel recycling technologies. Some of these entities indicated they are pursuing technologies that may be ready for deployment faster, and at a larger, commercial scale, than those currently under development by DOE.

In response to the comments and the interest expressed, DOE has made two fundamental changes to its GNEP NEPA strategy: (1) DOE will prepare a PEIS to assess the programmatic elements of GNEP, as well as the three proposed projects; and (2) DOE is now proposing to analyze engineering-scale and commercial-scale demonstrations of GNEP technologies at two of the three proposed facilities, rather than only at the smaller engineering scale.

Since publication of the ANOI, DOE has taken several steps to determine the level of interest in GNEP and obtain useful information. First, DOE has sought input regarding potential hosting sites in the United States for a nuclear fuel recycling center and an advanced recycling reactor. On August 3, 2006, DOE issued a Financial Assistance Funding Opportunity Announcement (FOA) for public or commercial entities interested in hosting GNEP facilities to conduct detailed siting studies. These siting studies will be used by DOE to help evaluate potential locations for a nuclear fuel recycling center and an advanced recycling reactor. Applications for these financial assistance grants were due to DOE by September 7, 2006. On November 29, 2006, DOE announced that 11 commercial and public consortia had been selected to receive grants under this FOA. The study sites and sponsors are:

Atomic City, Idaho—EnergySolutions, LLC,

Barnwell, South Carolina—EnergySolutions, LLC,

Hanford Site, Washington—Tri-City Industrial Development Council/Columbia Basin Consulting Group,

Hobbs, New Mexico—Eddy Lea Energy Alliance,

Idaho National Laboratory, Idaho—Regional Development Alliance, Inc.,

Morris, Illinois—General Electric Company,

Oak Ridge National Laboratory, Tennessee—Community Reuse Organization of East Tennessee,

Paducah Gaseous Diffusion Plant, Kentucky—Paducah Uranium Plant Asset Utilization, Inc.,

Portsmouth Gaseous Diffusion Plant, Ohio—Piketon Initiative for Nuclear Independence, LLC,

Roswell, New Mexico—EnergySolutions, LLC,

Savannah River National Laboratory, South Carolina—Economic Development,

Partnership of Aiken and Edgefield Counties.

Second, on August 7, 2006, DOE issued two requests for Expressions of Interest (EOIs) related to GNEP (see 44 FR 44673 and 44 FR 44676). The purpose of the EOIs was to obtain information from the domestic and international nuclear industry on the potential development of a commercial-scale nuclear fuel recycling center and an advanced recycling reactor using advanced technologies available now or in the near future. DOE is using the industry responses to the EOIs to help identify available technologies, alternative facility sizes, potential financial arrangements, and other factors related to the development of a nuclear fuel recycling center and an advanced recycling reactor. This information will contribute to the development of reasonable alternatives for evaluation in the GNEP PEIS.

DOE also would pursue an R&D program using an advanced fuel cycle research facility to develop additional technologies (not yet available) to separate and fabricate transmutation fuel for a fast reactor. DOE did not include an advanced fuel cycle research facility in the FOA or EOI processes because an advanced fuel cycle research facility is intended to be an R&D facility on a DOE site. Like a nuclear fuel recycling center and an advanced recycling reactor, an advanced fuel cycle research facility will be evaluated in the GNEP PEIS.

V. Description of GNEP Recycling

In general terms, GNEP recycling would work as follows. Spent fuel would be received from commercial nuclear reactors and would be processed in a nuclear fuel recycling center to separate the potentially reusable constituents (uranium and transuranic elements) from the non-reusable constituents (e.g., fuel element structural materials and fission products). The reusable constituents would be used to make transmutation fuel for an advanced recycling reactor and, possibly, other reactor fuels (e.g., uranium could be re-enriched and made into light-water reactor fuel). The transmutation fuel would be consumed in an advanced recycling reactor, and the advanced recycling reactor would also produce electricity during these operations. The spent transmutation fuel would then be separated and the remaining transuranics used to make new transmutation fuel to be further destroyed in the advanced recycling reactor while producing electricity. Non-reusable constituents would be converted to waste forms for eventual disposal in a geologic repository or for other long-term storage or disposal, as appropriate. This fuel cycle has the potential to reduce the volume, thermal output, and radiotoxicity of waste that would need to be placed in a geologic repository, thereby increasing the geologic repository's effective capacity and lessening the need for additional repository capacity.

VI. Current Research and Development Activities

DOE has been conducting R&D related to the nuclear fuel cycle and nuclear reactor programs for many decades. Current R&D efforts are focused on exploring new, innovative concepts for advanced nuclear energy technologies that can address the key issues facing the long-term viability and expansion of nuclear power, including: The need to reduce and deal satisfactorily with nuclear wastes; improving economic performance; further advancing the safety of nuclear power generation; and addressing issues associated with the proliferation of fissile materials and sensitive nuclear technologies. GNEP would build upon these activities. While these activities share a common purpose with GNEP, they are outside the scope of the GNEP PEIS.

VII. Proposed Alternatives

The GNEP PEIS will analyze the potential environmental impacts of programmatic and project-specific proposals, as well as reasonable alternatives.

A. International Programmatic Alternatives

The GNEP PEIS will evaluate the potential environmental impacts of two proposed international initiatives and, for each, a No Action Alternative. The No Action Alternative would reflect the continuation of the status quo.

The two initiatives are the reliable fuel services program and the reactor program. Under the reliable fuel services program, the United States would work with partner nations to provide assurances of fuel availability for operators of nuclear power reactors in nations that refrain from pursuing uranium enrichment and reprocessing programs. DOE is not proposing any specific action with regard to the reliable fuel services program, and the GNEP PEIS will include only a general, qualitative analysis of the potential impacts on the United States or the global commons that might be involved with such activities.

Under the reactor program, the United States would explore promoting proliferation-resistant reactors designed to meet the needs of developing economies. Because the designs for these reactors are not yet determined and DOE is not proposing any specific action to make the reactors available, the GNEP PEIS will include only a general, qualitative analysis of the potential impacts on the United States or the global commons that might be involved with such activities.

B. Domestic Programmatic Alternatives

The domestic programmatic alternatives currently envisioned are:

Programmatic Alternative 1, No Action Alternative: Continue the status quo by relying upon a “once through” or “open” fuel cycle in which commercial reactors generate and store SNF until DOE can dispose of it in a geologic repository, while continuing the ongoing nuclear fuel cycle R&D activities, including those activities associated with DOE's Advanced Fuel Cycle Initiative (AFCI).

Programmatic Alternative 2, Proposed Action: Pursue the GNEP closed fuel cycle and recycle SNF in a system that includes one or more nuclear fuel recycling centers and one or more advanced recycling reactors to process SNF generated after their deployment. The PEIS analysis would be based upon alternative assumptions regarding the amount of SNF processed and the corresponding potential cumulative impacts of reasonably foreseeable actions as a result of this alternative.

The closed fuel cycle programmatic alternative will include an analysis of the potential environmental impacts associated with broad implementation of a closed fuel cycle. In addition, DOE is now proposing to site, construct, and operate a single set of closed fuel cycle facilities.

C. Domestic Project-Specific Alternatives

The project-specific alternatives are:

Project Alternative 1, No Action Alternative: Continue relying upon a “once through” or “open” fuel cycle in which commercial reactors generate and store SNF until DOE can dispose of it in a geologic repository, while continuing the ongoing nuclear fuel cycle R&D activities, including those activities associated with DOE's AFCI. A nuclear fuel recycling center, an advanced recycling reactor, and an advanced fuel cycle research facility would not be built.

Project Alternative 2, Proposed Action: Select site(s) and construct and operate the following GNEP facilities: (1) A nuclear fuel recycling center, (2) an advanced recycling reactor, and (3) an advanced fuel cycle research facility. The GNEP PEIS will assess alternative technologies and implementation approaches (e.g., engineering or commercial facility scale) that are deemed reasonable, based in part on the EOIs discussed in the BACKGROUND section above. With respect to a nuclear fuel recycling center, DOE plans to evaluate alternative separations technologies for SNF from commercial light-water reactors and the advanced recycling reactor. For each technology, DOE would evaluate potential waste streams and alternative waste forms (e.g., borosilicate glass, ceramic).

For a nuclear fuel recycling center, DOE will analyze several alternative SNF throughputs from approximately 100 metric tons of heavy metal (MTHM) annually, up to 3,000 MTHM annually. At the low range of throughputs, the analyses would correspond to engineering-scale capacities consistent with the ANOI. At the high range of throughput, the Department expects that a nuclear fuel recycling center would have the capacity to recycle up to 2,000-3,000 MTHM annually, which would enable a nuclear fuel recycling center to recycle commercial SNF inventories at approximately the same rate that such inventories are now generated. DOE also will assess appropriate storage alternatives for the recycling facilities. DOE will evaluate storage of spent fuel prior to recycling, as well as storage of waste generated from recycling, at a level related to the projected throughput for a nuclear fuel recycling center.

For an advanced recycling reactor, the baseline technology that will be assessed is a sodium-cooled fast reactor. DOE plans to evaluate alternative fuel types (e.g., oxide, metal) and power ratings (250—2,000 MWthermal) for an advanced recycling reactor. DOE also will assess appropriate storage alternatives for spent fuel generated by an advanced recycling reactor prior to recycling, at a level related to the projected size of an advanced recycling reactor.

DOE envisions that a nuclear fuel recycling center and an advanced recycling reactor could begin operation before DOE has fully completed its research and development of the transmutation fuel recycling at an advanced fuel cycle research facility. During this interim period, DOE may use a nuclear fuel recycling center to separate light-water reactor SNF and support the fabrication of fast reactor driver fuel which would be consumed in the advanced recycling reactor. This fuel could be made of uranium and plutonium, but would likely not contain other transuranics. Once DOE completes the R&D required to fabricate fuel containing other transuranic elements, it would use a nuclear fuel recycling center to fabricate fast reactor fuels containing other transuranics, and demonstrate the consumption of transuranic elements in an advanced recycling reactor. DOE would then separate the resulting spent transmutation fuel and fabricate new transmutation fuel in a nuclear fuel recycling center.

At this time, the following DOE sites are under consideration for the location of a nuclear fuel recycling center and/or an advanced recycling reactor: Idaho National Laboratory (Idaho Falls, Idaho); Paducah Gaseous Diffusion Plant (Paducah, Kentucky); Portsmouth Gaseous Diffusion Plant (Piketon, Ohio); Savannah River Site (Aiken, South Carolina); Oak Ridge National Laboratory (Oak Ridge, Tennessee); and Hanford Site (Richland, Washington). In addition, non-DOE sites in the following locations also are under consideration for the location of a nuclear fuel recycling center and/or an advanced recycling reactor: Atomic City, Idaho; Morris, Illinois; Hobbs, New Mexico; Roswell, New Mexico; and Barnwell, South Carolina.

DOE is proposing that the advanced fuel cycle research facility be located at a DOE site. The DOE sites under consideration include: Idaho National Laboratory (Idaho Falls, Idaho); Argonne National Laboratory (DuPage County, Illinois); Los Alamos National Laboratory (Los Alamos, New Mexico); Savannah River Site (Aiken, South Carolina); Oak Ridge National Laboratory (Oak Ridge, Tennessee); and Hanford Site (Richland, Washington).

To determine reasonable site alternatives for an advanced fuel cycle research facility, DOE is conducting a site screening process that is considering criteria specific to an advanced fuel cycle research facility. Similarly, for a nuclear fuel recycling center and an advanced recycling reactor, DOE will use the information received through the FOA process, as well as other information, to develop the reasonable site alternatives. As a result of these site screening processes, some sites may be eliminated from consideration as reasonable site alternatives. DOE will document the results of the site screening processes in the GNEP PEIS Site Alternative Screening Report.

DOE intends that the alternatives and analyses in the GNEP PEIS will provide the maximum amount of flexibility in making decisions related to GNEP. In any event, however, in order for a site to be selected as the preferred site for a facility, DOE will require adequate assurances that there are no legal impediments to the siting and operation of that facility in that State.

The GNEP PEIS analysis will address the potential environmental impacts of proceeding with a nuclear fuel recycling center, an advanced recycling reactor, and an advanced fuel cycle facility, either individually or in any combination. In addition, the PEIS will analyze the environmental impacts of not developing transmutation fuel in a timely manner.

VIII. Potential Environmental Issues for Analysis

DOE has identified the following potential environmental issues for analysis in the GNEP PEIS. The list is presented to facilitate comment on the scope of the PEIS; it is not intended to be comprehensive or to predetermine the alternatives to be analyzed or their potential impacts. Additional issues may be identified as a result of the public scoping process. The current list includes the following issues:

• Potential impacts to the general population and workers from radiological and nonradiological releases

• Potential impacts of emissions on air and water quality

• Potential impacts on flora and fauna of a region

• Potential impacts from transportation—in the United States and across the global commons

• Potential impacts from treatment, storage, and disposal of radioactive materials and waste

• Potential impacts from postulated accidents, as well as potential impacts from acts of terrorism or sabotage

• Potential disproportionately high and adverse effects on low-income and minority populations (environmental justice)

• Potential Native American concerns (cultural and archaeological)

• Short-term and long-term land use impacts

• Compliance with applicable Federal and state regulations

• Long-term health and environmental impacts

• Long-term site suitability

• Consumption of natural resources and energy

• Socioeconomic impacts to potentially affected communities

• Potential impacts to cultural resources

• Cumulative impacts

• Pollution prevention and waste management practices

• Potential impacts from decontamination and decommissioning (D&D) of facilities

IX. Public Scoping Meetings

Public scoping meetings will be held to provide the public with an opportunity to present comments, ask questions, and discuss the scope of the GNEP PEIS with DOE officials. DOE selected the following scoping meeting locations based on the responses received to the Financial Assistance Funding Opportunity Announcement and a preliminary identification of DOE sites that could support the proposed DOE-directed R&D facility.

As discussed in this NOI, inclusion on the list below does not necessarily mean that a particular location will be considered as a reasonable site alternative for any GNEP facilities.

Oak Ridge, Tennessee:DoubleTree Hotel (Salons A and B) 215 South Illinois Avenue Oak Ridge, Tennessee 37830 Tuesday, February 13, 2007, 6 p.m.-9:30 p.m.

North Augusta, South Carolina:North Augusta Community Center 495 Brookside Avenue North Augusta, South Carolina 29841 Thursday, February 15, 2007, 6 p.m.-9:30 p.m.

Joliet, Illinois:Barber & Oberwortmann Horticultural Center 227 North Gougar Road Joliet, Illinois 60435 Thursday, February 22, 2007, 6 p.m.-9:30 p.m.

Hobbs, New Mexico:Lea County Event Center 5101 N Lovington-Hobbs Hwy Hobbs, New Mexico 88240 Monday, February 26, 2007, 6 p.m.-9:30 p.m.

Roswell, New Mexico:Best Western Sally Port Inn & Suites (Ballroom) 2000 N Main Street Roswell, New Mexico 88201-6450 Tuesday, February 27, 2007, 6 p.m.-9:30 p.m.

Los Alamos, New Mexico:Hilltop House Best Western (La Vista Room) 400 Trinity Drive (at Central) Los Alamos, New Mexico 87544 Thursday, March 1, 2007, 6 p.m.-9:30 p.m.

Paducah, Kentucky:Executive Inn Riverfront (Meeting Room International D) One Executive Blvd. Paducah, Kentucky 42001 Tuesday, March 6, 2007, 6 p.m.-9:30 p.m.

Piketon, Ohio:Ohio State University Endeavor Center, Room 160 1862 Shyville Road Piketon, Ohio 45661 Thursday, March 8, 2007, 6 p.m.-9:30 p.m.

Pasco, Washington:Red Lion Hotel (Gold Room) 2525 N. 20th Avenue Pasco, Washington 99301 Tuesday, March 13, 2007, 6 p.m.-9:30 p.m.

Idaho Falls, Idaho:Red Lion Hotel on the Falls (Yellowstone/Teton Rooms) 475 River Parkway Idaho Falls, Idaho 83402 Thursday, March 15, 2007, 6 p.m.-9:30 p.m.

Washington, DC:Hotel Washington (Washington Room) 15th and Pennsylvania Ave, NW Washington, DC 20004 Monday, March 19, 2007, 1 p.m.-5 p.m.

DOE also will publish notices in local media in advance of the scheduled public scoping meetings with the dates, times, and locations.

X. NEPA Process

DOE plans to publish the GNEP Draft PEIS in 2007 and the GNEP Final PEIS in 2008. Following the 90-day public scoping period that commences with publication of this NOI, DOE will prepare the GNEP Draft PEIS. Once approved, DOE will announce the availability of the GNEP Draft PEIS in the Federal Register and hold public hearings to solicit comments on the GNEP Draft PEIS from Federal, state, and local governments, Native American Tribes, industry, other organizations, and members of the public. These comments will be considered and addressed in the GNEP Final PEIS. DOE will issue one or more Records of Decision no sooner than 30 days after publication of the Environmental Protection Agency's Notice of Availability of the GNEP Final PEIS.

Issued in Washington, DC, on December 27, 2006.
David R. Hill,
General Counsel.

[FR Doc. E6-22548 Filed 1-3-07; 8:45 am]

BILLING CODE 6450-01-P